ENVIRONMENTAL PROTECTION AGENCY

[EPA-HQ-OAR-2005-0161; FRL-9752-6]

Proposed Information Collection Request; Comment Request; Renewable Fuels Standard (RFS2) Program

AGENCY: Environmental Protection Agency (EPA).

ACTION: Notice.

SUMMARY: The Environmental Protection Agency is planning to submit an information collection request (ICR), “Renewable Fuels Standard (RFS2) Program” (EPA ICR No. 2380.20, OMB Control No. 2060-0637) to the Office of Management and Budget (OMB) for review and approval in accordance with the Paperwork Reduction Act (44 U.S.C. 3501 et seq.). Before doing so, EPA is soliciting public comments on specific aspects of the proposed information collection as described below. This is a “RENEWAL” of the ICR, which is currently approved through March 31, 2013. An Agency may not conduct or sponsor and a person is not required to respond to a collection of information unless it displays a currently valid OMB control number.

DATES: Comments must be submitted on or before January 22, 2013.

ADDRESSES: Submit your comments, referencing Docket ID No. EPA-HQ-OAR-2005-0161 online using www.regulations.gov, or in person viewing at the Air Docket in the EPA Docket Center in Washington, DC (EPA/DC). The docket is located in the EPA West Building, 1301 Constitution Avenue NW., Room 3334, and is open from 8:30 a.m. to 4:30 p.m. Eastern Standard Time, Monday through Friday, excluding legal holidays, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J Environmental Protection Agency, 1200 Pennsylvania Ave. NW., Washington, DC 20460; telephone number: 202-343-9017, fax number: 202-343-2800; email address: heard.geanetta@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA would like to continue to collect annual reports, initial registrations and updates by way of the Agency's CDX and petitions for renewable fuels pathways from the regulated RFS industry. The recordkeeping and reporting of this regulation will allow EPA to monitor compliance with the RFS program. We inform respondents that they may assert claims of business confidentiality (CBI) for information they submit in accordance with 40 CFR Part 2203.

Form Numbers:

RFS0103: RFS2 Q1 2012 Activity Report.

RFS0104: RFS2 Activity Report.

RFS0201: RFS1 RIN Transaction Report (only if RFS1 RINs were bought, sold, retired, or reinstated).

RFS0600: RFS2 Renewable Fuel Producer Supplemental Report (if applicable).

RFS0701: RFS2 Renewable Fuel Producer Co-products Report.

RFS0801: RFS2 Renewable Biomass Report.

RFS0901: RFS2 Production Outlook Report.

EMTS: RFS2 RIN Transaction Report.

EMTS: RFS2 RIN Generation Report (Equivalent to RFS0400).

RFS0301: RFS2 2010 Annual Compliance Report.

RFS0302: RFS2 2011 Annual Compliance Report.

EMTS: RFS2 RIN Transaction Report.

Respondents/affected entities: Producers of Renewable Fuels, Importers, Obligated Parties, Parties who own RINS (including foreign RIN owners).

Respondent's obligation to respond: mandatory Sections 114 and 208 of the Clean Air Act (CAA), 42 U.S.C. 7414 and 7542.

Estimated number of respondents: 6065.

Frequency of response: Annually.

Total estimated burden: 52,095 hours (per year). Burden is defined at 5 CFR 1320.03(b).

Total estimated cost: $8,010,130 (per year), includes $320 annualized capital or operation & maintenance costs.

Changes in Estimates: This decrease came due to the change in the respondent universe. Two obligated parties categories, the importers of renewable fuels and any party who own/intend to own RINs which include blenders, brokers and marketers dropped significantly. Importers dropped from 360 responses to 270 and any party who own/intend to own RINs which include blenders, brokers and marketers dropped from 3000 responses to 1650 thus lessoning the reporting burden. The number of responses by these two parties decreased by a total of 6,638 responses and 7530 hours.

Dated: November 8, 2012.
Byron Bunker,
Director, Transportation and Regional Programs Division.

[FR Doc. 2012-28218 Filed 11-19-12; 8:45 am]

BILLING CODE 6560-50-P